DEPARTMENT OF COMMERCE

National Oceanic and Atmospheric Administration

RIN 0648-XA288

Marine Mammals; File No. 15748

AGENCY: National Marine Fisheries Service (NMFS), National Oceanic and Atmospheric Administration (NOAA), Commerce.

ACTION: Notice; issuance of permit amendment.

SUMMARY: Notice is hereby given that a major amendment to Permit No. 15748 has been issued to Alaska SeaLife Center (ASLC), Seward, AK.

ADDRESSES: The permit amendment and related documents are available for review upon written request or by appointment in the following offices:

Permits and Conservation Division, Office of Protected Resources, NMFS, 1315 East-West Highway, Room 13705, Silver Spring, MD 20910; phone (301) 427-8401; fax (301) 713-0376; and Southwest Region, NMFS, 501 West Ocean Blvd., Suite 4200, Long Beach, CA 90802-4213; phone (562) 980-4001; fax (562) 980-4018.

FOR FURTHER INFORMATION CONTACT: Joselyd Garcia-Reyes or Tammy Adams, (301) 427-8401.

SUPPLEMENTARY INFORMATION: On May 7, 2012, notice was published in the Federal Register (77 FR 26747) that a request for an amendment Permit No. 15748 to conduct research on Weddell seals had been submitted by the above-named applicant. The requested permit amendment has been issued under the authority of the Marine Mammal Protection Act of 1972, as amended (16 U.S.C. 1361 et seq.), and the regulations governing the taking and importing of marine mammals (50 CFR part 216).

The amended permit authorizes takes of 35 weaned pups/juveniles over the life of the permit for the deployment of instrumentation; increases the number of annual takes per animal of weaned pups/juveniles and adult females from 2 to 3; adds nasal, oral, and rectal swab collection (one of each per animal) in weaned pups/juveniles and adult females; adds the use of spray lidocaine or similar agent; adds stable isotope analysis to compare stable isotope values of Weddell seals in the Ross Sea in the early 1900s to today; and adds an influenza A analysis using the requested swab collection to understand the exposure of pathogens to Antarctic marine mammals. The amended permit is valid through the expiration date of the original permit, August 30, 2015.

In compliance with the National Environmental Policy Act of 1969 (42 U.S.C. 4321 et seq.), a final determination has been made that the activity proposed is categorically excluded from the requirement to prepare an environmental assessment or environmental impact statement.

Dated: August 15, 2012.
P. Michael Payne,
Chief, Permits and Conservation Division, Office of Protected Resources, National Marine Fisheries Service.

[FR Doc. 2012-20516 Filed 8-20-12; 8:45 am]

BILLING CODE 3510-22-P